DEPARTMENT OF HOUSING AND URBAN DEVELOPMENT

[Docket No. FR-5540-D-02]

Order of Succession for the Office of Public Affairs

AGENCY: Office of Public Affairs, HUD.

ACTION: Notice of order of succession.

SUMMARY: In this notice, the General Deputy Assistant Secretary designates the Order of Succession for the Office of Public Affairs. This Order of Succession supersedes all prior orders of succession for the Office of Public Affairs.

DATES: Effective Date: June 29, 2011.

FOR FURTHER INFORMATION CONTACT: Neill Coleman, General Deputy Assistant Secretary, Office of Public Affairs, Department of Housing and Urban Development, 451 7th Street, SW., Room 10130, Washington, DC 20410-6000, telephone number 202-708-0980. (This is not a toll-free number.) Persons with hearing- or speech-impairments may access this number through TTY by calling the toll-free Federal Relay Service at 1-800-877-8339.

SUPPLEMENTARY INFORMATION: The General Deputy Assistant Secretary is issuing this Order of Succession of officials authorized to perform the functions and duties of the Office of Public Affairs when, by reason of absence, disability, or vacancy in office, the General Deputy Assistant Secretary for Public Affairs is not available to exercise the powers or perform the duties of the office. This Order of Succession is subject to the provisions of the Federal Vacancies Reform Act of 1998 (5 U.S.C. 3345-3349d), and supersedes all prior Orders of Succession for the Office of Public Affairs.

Accordingly, the General Deputy Assistant Secretary designates the following Order of Succession:

Section A. Order of Succession

Subject to the provisions of the Federal Vacancies Reform Act of 1998, during any period when, by reason of absence, disability, or vacancy in office, the Assistant Secretary for Public Affairs is not available to exercise the powers or perform the duties of the office of the Assistant Secretary, the following officials within the Office of Public Affairs are hereby designated to exercise the powers and perform the duties of the Office:

(1) Press Secretary;

(2) Deputy Assistant Secretary for Public Affairs; and

(3) Supervisory Public Affairs Specialist.

These officials shall perform the functions and duties of the office in the order specified herein, and no official shall serve unless all the other officials, whose position titles precede his/hers in this order, are unable to act by reason of absence, disability, or vacancy in office.

Section B. Authority Superseded

This Order of Succession supersedes all prior orders of succession for the Office of the Assistant Secretary for Public Affairs.

Authority: Section 7(d), Department of Housing and Urban Development Act, 42 U.S.C. 3535(d).

Dated: June 29, 2011.
Neill Coleman,
General Deputy Assistant Secretary.

[FR Doc. 2011-18160 Filed 7-19-11; 8:45 am]

BILLING CODE 4210-67-P